DEPARTMENT OF TRANSPORTATION

Office of the Secretary

[Docket No. DOT-OST-2022-0102]

Use of Inland Ports for Storage and Transfer of Cargo Containers

ACTION: Notice of request for information.

SUMMARY: This notice requests comments and information from representatives from across the supply chain, as well as the general public, pertaining to the feasibility of, and strategies for, identifying Federal and non-Federal sites for storage and transfer of cargo containers, to assist the Department of Transportation in preparing the report required by Section 24 of the Ocean Shipping Reform Act (OSRA), which was signed into law on June 16, 2022.

DATES: Comments must be received on or before October 26, 2022. DOT will consider comments filed after this date to the extent practicable.

ADDRESSES: You may submit comments identified by Docket Number DOT-OST-2022-0102 by any of the following methods:

• Electronic Submission: Go to http://www.regulations.gov. Search by using the docket number (provided above). Follow the instructions for submitting comments on the electronic docket site.

• Mail: Docket Management Facility; U.S. Department of Transportation, 1200 New Jersey Avenue SE, West Building, Ground Floor (W12-140), Washington, DC 20590-0001.

• Hand Delivery: W12-140 of the Department of Transportation, 1200 New Jersey Avenue SE, Washington, DC, between 9 a.m. and 5 p.m., Monday through Friday, except Federal Holidays.

Instructions: All submissions must include the agency name and docket numbers.

Note: All comments received, including any personal information, will be posted without change to the docket and is accessible via http://www.regulations.gov. Input submitted online via www.regulations.gov is not immediately posted to the site. It may take several business days before your submission is posted.

FOR FURTHER INFORMATION CONTACT: osra_inlandports@dot.gov or Brandon White at 202-366-4829.

SUPPLEMENTARY INFORMATION:

Background

On June 16, 2022, President Biden signed into law S. 3580, the Ocean Shipping Reform Act of 2022 (OSRA). Section 24 of OSRA, titled “USE OF UNITED STATES INLAND PORTS FOR STORAGE AND TRANSFER OF CARGO CONTAINERS”, required that the U.S. Department of Transportation's Assistant Secretary for Transportation Policy, in consultation with the Administrator of the Maritime Administration and the Chairperson of the Federal Maritime Commission, convene a meeting of representatives of entities described in subsection (b) to discuss the feasibility of, and strategies for, identifying Federal and non-Federal land, including inland ports, for the purposes of storage and transfer of cargo containers due to port congestion. The required meeting was conducted September 26, 2022.

This notice requests comments and information from representatives across the supply chain, and any other interested parties, pertaining to the feasibility of, and strategies for, identifying Federal and non-Federal sites for storage and transfer of cargo containers, to assist the Department of Transportation in preparing the report required by OSRA. In developing this report, the Secretary will consult with the heads of appropriate agencies and will be assisted by the relevant operating administrations of the Department of Transportation.

Written Comments

The Department seeks information from supply chain stakeholders and any other interested parties on the feasibility of, and strategies for, identifying Federal and non-Federal sites for storage and transfer of cargo containers, including, but not limited to, the following topics:

1. As far as solutions to address congestion are concerned, how much utility do you see in identifying additional space for the storage and transfer of intermodal containers? What, if anything, would you prioritize above additional storage and transfer space in order to maintain fluidity?

2. Would you consider the use of additional storage and transfer spaces for congestion mitigation, such as inland ports, feasible for your industry and geographic areas of operation?

3. Recognizing the distribution value chain involves multiple stakeholders, what other entities would most benefit from additional inland ports?

4. What roles do you envision the private and public sector, including the Federal government, offering to create the most effective strategy to implement congestion mitigation through greater development and utilization of inland ports?

Dated: September 15, 2022.
Christopher Coes,
Assistant Secretary for Transportation Policy.

[FR Doc. 2022-20755 Filed 9-23-22; 8:45 am]

BILLING CODE 4910-9X-P